DEPARTMENT OF HEALTH AND HUMAN SERVICES

Office of the National Coordinator for Health Information Technology; American Health Information Community Meeting

ACTION: Announcement of meeting.

SUMMARY: This notice announces the 18th meeting of the American Health Information Community in accordance with the Federal Advisory Committee Act (Pub. L. No. 92-463, 5 U.S.C., App.) The American Health Information Community will advise the Secretary and recommend specific actions to achieve a common interoperability framework for health information technology (IT).

DATES: November 28, 2007, time to be determined. Check Web site for further information for dialing into meeting for public comment.

ADDRESSES: This will be a conference call meeting only. Public comment will be taken at the conclusion of the meeting.

FOR FURTHER INFORMATION CONTACT: For further information, visit http://www.hhs.gov/healthit/ahic.html.

SUPPLEMENTARY INFORMATION: This special meeting has been called to discuss a recommendation to the Community from its Electronic Health Records Workgroup (EHR WG) on the Centers for Medicare and Medicaid Services’ (CMS) authority to require e-prescribing.

Dated: November 15, 2007.
Judith Sparrow,
Director, American Health Information Community, Office of Programs and Coordination, Office of the National Coordinator for Health Information Technology.

[FR Doc. 07-5791 Filed 11-16-07; 4:11 pm]

BILLING CODE 4150-24-P